DEPARTMENT OF THE INTERIOR

Bureau of Indian Affairs

[124A2100RM.AADD003200.A087C222.999900.AR.DED.97C22214.001]

Advisory Board for Exceptional Children

AGENCY: Bureau of Indian Affairs, Interior.

ACTION: Notice of Meeting.

SUMMARY: The Bureau of Indian Education (BIE) is announcing that the Advisory Board for Exceptional Children (Advisory Board) will hold its next meeting in Albuquerque, New Mexico. The purpose of the meeting is to meet the mandates of the Individuals with Disabilities Education Act of 2004 (IDEA) for Indian children with disabilities.

DATES: The Advisory Board will meet on Thursday, July 18, 2013, from 8:30 a.m. to 4:00 p.m. and Friday, July 19, 2013 from 8:30 a.m. to 4:00 p.m. Mountain Time. Orientation for new members will be held Wednesday, July 17, 2013, from 9:00 a.m. to 4:00 p.m. Mountain Time.

ADDRESSES: The meeting will be held at the Manuel Lujan, Jr. Building, 1011 Indian School Road NW., Room 231-232, Albuquerque, New Mexico 87104. Telephone 505-563-5383.

FOR FURTHER INFORMATION CONTACT: Sue Bement, Designated Federal Officer, Bureau of Indian Education, Division of Performance and Accountability (DPA), 1011 Indian School Road NW., Suite 332, Albuquerque, New Mexico 87104; telephone number (505) 563-5274 or email sue.bement@bie.edu.

SUPPLEMENTARY INFORMATION: In accordance with the Federal Advisory Committee Act, the BIE is announcing that the Advisory Board will hold its next meeting in Albuquerque, New Mexico. The Advisory Board was established under the Individuals with Disabilities Act of 2004 (20 U.S.C. 1400 et seq.) to advise the Secretary of the Interior, through the Assistant Secretary—Indian Affairs, on the needs of Indian children with disabilities. The meetings are open to the public.

The following items will be on the agenda:

• Remarks from Acting BIE Director;

• Report from Acting Associate Deputy Director, DPA/BIE;

• Report from, Supervisory Education Specialist, Special Education, DPA/BIE;

• BIE Data Summit Review;

• Discussion and selection of Advisory Board Priorities;

• Public Comment (via conference call, July 19, 2013, meeting only*); and

• BIE Advisory Board-Advice and Recommendations.

*During the July 19, 2013 meeting, time has been set aside for public comment via conference call from 1:00-1:30 p.m. Mountain Time. The call-in information is: Conference Number 1-888-417-0376, Passcode 1509140.

Dated: July 10, 2013.
Kevin K. Washburn,
Assistant Secretary—Indian Affairs.

[FR Doc. 2013-16886 Filed 7-12-13; 8:45 am]

BILLING CODE 4310-6W-P